DEPARTMENT OF EDUCATION

National Institute on Disability and Rehabilitation Research—Disability and Rehabilitation Research Projects and Centers Program—Rehabilitation Research and Training Centers; Grants and Cooperative Agreements; Availability

AGENCY: Office of Special Education and Rehabilitative Services, Department of Education.

ACTION: Notice of final priority (NFP) on promoting access to effective consumer-centered and community-based practices and supports for adults with serious mental illness.

SUMMARY: The Assistant Secretary for Special Education and Rehabilitative Services announces a funding priority for the National Institute on Disability and Rehabilitation Research's (NIDRR) Disability and Rehabilitation Research Projects and Centers Program, Rehabilitation Research and Training Centers (RRTC) program. This priority may be used for competitions in fiscal year (FY) 2005 and later years. We take this action to focus research attention on areas of national need. We intend this priority to improve rehabilitation services and outcomes for individuals with disabilities.

DATES: Effective Date: This priority is effective July 18, 2005.

FOR FURTHER INFORMATION CONTACT: Donna Nangle, U.S. Department of Education, 400 Maryland Avenue, SW., room 6030, Potomac Center Plaza, Washington, DC 20202. Telephone: (202) 245-7462 or by e-mail: donna.nangle@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Rehabilitation Research and Training Centers

RRTCs conduct coordinated and integrated advanced programs of research targeted toward the production of new knowledge to improve rehabilitation methodology and service delivery systems, alleviate or stabilize disability conditions, or promote maximum social and economic independence for persons with disabilities. Additional information on the RRTC program can be found at: http://www.ed.gov/rschstat/research/pubs/res-program.html#RRTC.

General Requirements of Rehabilitation Research and Training Centers

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Demonstrate in its application how it will address, in whole or in part, the needs of individuals with disabilities from minority backgrounds;

• Disseminate informational materials to individuals with disabilities, their representatives, providers, and other interested parties; and

• Serve as centers for national excellence in rehabilitation research for individuals with disabilities, their representatives, providers, and other interested parties.

The Department is particularly interested in ensuring that the expenditure of public funds is justified by the execution of intended activities and the advancement of knowledge and, thus, has built this accountability into the selection criteria. Not later than three years after the establishment of any RRTC, NIDRR will conduct one or more reviews of the activities and achievements of the RRTC. In accordance with the provisions of 34 CFR 75.253(a), continued funding depends at all times on satisfactory performance and accomplishment of approved grant objectives.

Analysis of Comments and Changes

We published a notice of proposed priority (NPP) for this program in the Federal Register on March 3, 2005 (70 FR 10378). The NPP included a background statement that described our rationale for proposing this priority.

In response to our invitation in the NPP, 17 parties submitted comments on the proposed priority. An analysis of the comments and of any changes in the priority since publication of the NPP is discussed in the Analysis of Comments and Changes section published as an appendix to this notice.

Generally, we do not address technical and other minor changes and suggested changes we are not authorized to make under the applicable statutory authority.

Note: This notice does not solicit applications. In any year in which we choose to use this final priority, we invite applications through a notice in the Federal Register. When inviting applications we designate the priority as absolute, competitive preference, or invitational. The effect of the priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the priority a competitive or absolute preference over other applications (34 CFR 75.105(c)(1)).

Note: NIDRR supports the goals of President Bush's New Freedom Initiative (NFI). The NFI can be accessed on the Internet at the following site: http://www.whitehouse.gov/infocus/newfreedom.

The final priority is in concert with NIDRR's 1999-2003 Long-Range Plan (Plan). The Plan is comprehensive and integrates many issues relating to disability and rehabilitation research topics. Applicants will find many sections throughout the Plan that support potential research to be conducted under the final priority. The references to the topic of this priority may be found in the Plan, Chapter 4, Health and Function and Chapter 6, Independent Living And Community Integration. The Plan can be accessed on the Internet at the following site: http://www.ed.gov/rschstat/research/pubs/index.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priority

The Assistant Secretary intends to fund a priority for one RRTC that must focus on promoting access to effective consumer-centered and community-based practices and supports for adults with serious mental illness.

The RRTC must—

(1) Identify or develop and evaluate models, methods, and measures for improving the quality of mental health outcomes through transformation of the service delivery system in a manner that reflects and embodies consumer choice. These models, methods, and measures may focus on, but are not limited to, self-determination, consumer-centered services, consumer choice, and coordination across service systems. All of these efforts must be culturally competent and appropriate for targeted populations;

(2) Identify or develop and then evaluate strategies for translating evidence-based mental health research findings and best practices into effective interventions, including the development of tools and supports for providers of mental health or other adjunctive services that reflect consumer choice; and

(3) Identify or develop and evaluate interventions, such as peer support services, that help to improve workforce capacity, choice, participation, and job longevity for adults with serious mental illness.

In addition to these requirements, the RRTC must—

• Conduct a state-of-the-science conference on its respective area of research in the third year of the grant cycle and publish a comprehensive report on the final outcomes of the conference in the fourth year of the grant cycle. This conference must include materials from experts internal and external to the RRTC;

• Coordinate on research projects of mutual interest with relevant NIDRR-funded projects as identified through consultation with the NIDRR project officer;

• Involve individuals with disabilities in planning and implementing its research, training, and dissemination activities, and in evaluating the RRTC; and

• Identify anticipated outcomes (i.e., advances in knowledge and/or changes and improvements in policy, practice, behavior, and system capacity) that are linked to the applicant's stated grant objectives.

Executive Order 12866

This NFP has been reviewed in accordance with Executive Order 12866. Under the terms of the order, we have assessed the potential costs and benefits of this regulatory action.

The potential costs associated with the NFP are those resulting from statutory requirements and those we have determined as necessary for administering this program effectively and efficiently.

In assessing the potential costs and benefits—both quantitative and qualitative—of this NFP, we have determined that the benefits of the final priority justify the costs.

Summary of potential costs and benefits:

The potential costs associated with this final priority are minimal while the benefits are significant. Grantees may incur some costs associated with completing the application process in terms of staff time, copying, and mailing or delivery. The use of Grants.gov technology reduces mailing and copying costs significantly.

The benefits of the RRTC program have been well established over the years in that similar projects have been completed successfully. This final priority will generate new knowledge and technologies through research, development, dissemination, utilization, and technical assistance projects.

Another benefit of this final priority is that the establishment of a new RRTC will support the President's NFI and will improve the lives of persons with disabilities, in particular promoting access to effective consumer-centered and community-based practices and supports for adults with serious mental illness. The new RRTC will generate, disseminate, and promote the use of new information that will improve options for individuals with disabilities and allow them to perform regular activities in the community.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133B Rehabilitation Research and Training Centers Program)

Program Authority: 29 U.S.C. 762(g) and 764(b)(2).

Dated: June 13, 2005.
John H. Hager,
Assistant Secretary for Special Education and Rehabilitative Services.

Appendix

Analysis of Comments and Changes

An analysis of the comments and the changes in the priority since publication of the NPP follows.

Comment: None.

Discussion: After further review of the general requirements of an RRTC and the priority requirements, we have changed the location of two of the requirements, “Identify anticipated outcomes (i.e., advances in knowledge and/or changes and improvements in policy, practice, behavior, and system capacity) that are linked to the applicant's stated grant objectives” has been moved from the general requirements of an RRTC to the priority section of the NPP. “Demonstrate in its application how it will address, in whole or in part, the needs of individuals with disabilities from minority backgrounds” has been moved from the priority section of the NPP to the general requirements of an RRTC.

Change: The location of two of the requirements has been changed to better reflect the requirements of an RRTC. This change in the structure of the requirements does not change the requirements in the NPP.

Comment: One commenter suggested that the first required activity was ambiguous. The commenter indicated that the priority could be read to require “improving the quality of practices and supports (which should then lead to improved outcomes) or improving outcomes per se'.

Discussion: The goal of this priority is to achieve improved outcomes in a variety of domains for individuals with serious mental illness. To reach that goal, the applicant may propose a variety of means that could improve the quality of practices and supports that would facilitate those outcomes. The peer review panel will evaluate the models, methods, and measures an applicant proposes.

Changes: None.

Comment: One commenter raised concerns about the phrase “strategies for translating evidence-based mental health research findings and best practices into effective interventions” that is in the second required activity. The commenter stated that “interventions cannot be considered to be effective if they are not already evidence-based, thus evidence-based practices should by definition be effective and not require translation—unless the priority is addressing specific translational research or the adaptation of evidence-based practices for real world naturalistic settings (e.g., for communities of color, which might be considered to be more dissemination research)”. The commenter further asked whether applicants were being encouraged to develop “toolkits” for practices that do not already have them or to disseminate existing evidence-based practices to populations other than those on whom the evidence was based.

Discussion: Evidence-based practices must be used in order to benefit the people they are intended to serve; research alone is insufficient for improving outcomes. This requirement focuses on strategies for translating evidence-based research findings into interventions. This can include dissemination and utilization activities. Additionally, an applicant may propose a variety of methods to achieve the goal of bridging gaps between research and implementation. The peer review panel will evaluate the methodologies applicants propose.

Changes: None.

Comment: One commenter expressed confusion about the phrase “workforce capacity and choice” in the third required activity. The commenter stated that “increasing capacity can be done purely by hiring additional staff made possible by an infusion of new resources, but this may have no impact whatsoever in terms of choice. Alternatively, training staff in culturally responsive and consumer-centered approaches can increase consumer choice and the quality of services, without having any impact on capacity. By putting the two terms together are we to understand that they are somehow related, for example, increasing specifically the capacity of the system for enhancing choice.”

Discussion: This comment suggests a misunderstanding of the target population for the third required activity. This activity focuses on interventions that enhance employment opportunities for individuals with serious mental illness—not methods of increasing provider workforce capacity. The RRTC must identify or develop and evaluate interventions that improve job readiness, skills, and overall capacity for people with serious mental illness. Interventions that strengthen the workforce capacity of workers with serious mental illness lead to increased choice. Workers with more skills and capacity have more options and choices in the job market because they can offer more to employers.

Changes: None.

Comment: One commenter wrote that persons with psychiatric disabilities are a key emerging disability group in the United States. The commenter noted that although this population now represents one quarter of new state based vocational rehabilitation cases, the total number of interventions and effective approaches for addressing these needs is quite small. The commenter suggested that the third required activity be modified to emphasize the need for interventions that help to improve workforce participation and job longevity, as well as choice.

Discussion: We agree that adding the terms participation and job longevity would be helpful. As noted in the NPP background statement, a number of data sources indicate the need for effective programs, services, and supports to improve workforce participation for individuals with psychiatric disabilities.

Changes: The third required activity now includes the phrase “participation and job longevity” and reads, “Identify or develop and evaluate interventions, such as peer support services, that help to improve workforce capacity, choice, participation, and job longevity for adults with serious mental illness.

Comment: One commenter suggested that the priority be expanded to require greater efforts on the part of the mental health and disabilities systems in helping clients to access mainstream resources such as—housing programs that promote home ownership opportunities, vocational opportunities that support consumers who want to enter mainstream academic or skill training programs outside the mental health system, and social supports that work with community groups rather than solely support segregated social programs.

Discussion: NIDRR has long encouraged disability-focused providers to draw upon the wide range of generic community supports and services. Those resources might expand the range of opportunities available to individuals with disabilities. They are potential tools and supports for both providers and consumers. Within the framework of this RRTC, an applicant could propose methodologies to enhance use of such generic programs. The peer review panel will evaluate the merits of any activities of this nature that the applicant proposes.

Changes: None.

[FR Doc. 05-11924 Filed 6-16-05; 8:45 am]

BILLING CODE 4000-01-P